DEPARTMENT OF STATE

[Public Notice 4931]

Shipping Coordinating Committee; Notice of Meeting

The Shipping Coordinating Committee (SHC) will conduct an open meeting at 9:30 a.m. on Tuesday, February 8, 2005, in Room 6103 of the United States Coast Guard Headquarters Building, 2100 2nd Street, SW., Washington, DC 20593-0001. The primary purpose of the meeting is to prepare for the 48th session of the Sub-Committee on Ship Design and Equipment (DE) to be held at the International Maritime Organization (IMO) Headquarters in London, England from February 21st to February 25th, 2005.

The primary matters to be considered include:

—Amendments to resolution A.744(18) regarding longitudinal strength of tankers;

—Large passenger ship safety;

—Measures to prevent accidents with lifeboats;

—Protection of fuel tanks;

—Anchoring, mooring and towing equipment;

—Compatibility of life-saving appliances;

—Performance testing and approval standards for SOLAS personal life-saving appliances;

—Review of the 2000 HSC Code and amendments to the DSC Code and the 1994 HSC Code;

—Consideration of IACS unified interpretations;

—Inspection and survey requirements for accommodation ladders;

—Safety aspects of ballast water management;

—Revision of the Guidelines for systems for handling oily wastes in machinery spaces of ships (MEPC/Circ.235);

—Development of provisions for gas-fuelled ships;

—Performance standards for protective coatings;

—Free-fall lifeboats with float-free capability;

—Guidelines on on-board exhaust gas cleaning systems;

—Mandatory emergency towing systems in ships other than tankers greater than 20,000 dwt;

—Test standards for extended service intervals of inflatable liferafts;

—Review of the Offshore Supply Vessel Guidelines.

Hard copies of documents associated with the 48th session of DE will be available at this meeting. To request further copies of documents please write to the address provided below.

Members of the public may attend this meeting up to the seating capacity of the room. Interested persons may seek information by writing to Mr. Wayne Lundy, Commandant (G-MSE-3), U.S. Coast Guard Headquarters, 2100 Second Street, SW., Room 1300, Washington, DC 20593-0001 or by calling (202) 267-0024.

Dated: January 5, 2005.
Clay Diamond,
Executive Secretary, Shipping Coordinating Committee, Department of State.

[FR Doc. 05-743 Filed 1-12-05; 8:45 am]

BILLING CODE 4710-09-P